DEPARTMENT OF HEALTH AND HUMAN SERVICES

Centers for Disease Control and Prevention

[60Day-09-09BI]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Minority HIV/AIDS Research Initiative (MARI) Project-Family and Cultural Influences on Talking Strategies (New 60-day FRN); National Center for HIV/AIDS, Viral Hepatitis, Sexually Transmitted Diseases, and Tuberculosis Elimination Programs (NCHHSTP), Centers for Disease Control and Prevention (CDC).

Background and Brief Description

CDC is requesting OMB approval to conduct an assessment of the determinants of factors associated with parent-adolescent communication about sex among African-American and Hispanic mothers and their children in the southwestern United States. In the United States, non-Hispanic Black and Hispanic adolescents have been disproportionately impacted by HIV/AIDS. In 2006, based on CDC data from the 50 states and the District of Columbia, non-Hispanic Blacks and Hispanics made up 16% and 17%, respectively (34% total), of the 13-19 year-old population, but 69% and 19% respectively (88% total) of AIDS diagnoses among that age group. In addition, current trends suggest that a large number of persons with HIV/AIDS are infected in their adolescent years, and there may be a long latency period before signs of infection present in later years. Individuals may develop patterns of sexual behavior in adolescence that put them at risk for infection with HIV. Data suggest that parent-adolescent communication about sex is an important determinant of adolescent sexual risk behavior.

The purpose of the proposed study is to identify effective strategies African American and Latino parents use to communicate with their children about sex. Families will be enrolled at a local community Boys and Girls Club that has ongoing activities for youth and their parents. In phase 1 (sample=48), African American and Hispanic mothers will complete a 90 minute focus group. In phase 2 (sample=800), mothers and their children (ages 12-15) will complete a 100 minute self-administered survey on a lap-top computer using Audio-computer Assisted Interviewing (ACASI). Findings will be used to provide recommendations for behavioral interventions and educational materials for parent-adolescent sexual health communications for minority families. The survey will take approximately 100 minutes to complete. The total response burden for the two-year period is estimated to be 1406 hours (703 annualized burden hours). There is no cost to respondents except for their time.

Estimate of Annualized Burden Table
Types of data collection | Number of respondents | Number of responses per respondent | Average burden per response (in hours) | Total burden (in hours)
Focus Group | 48 | 1 | 2 | 96
ACASI (Computer) Survey—Mothers | 400 | 1 | 2 | 800
ACASI (Computer) Survey—Children | 400 | 1 | 2 | 800
Total burden hours |  |  |  | 1696

Dated: April 8, 2009.
Maryam I. Daneshvar,
Acting Reports Clearance Officer, Centers for Disease Control and Prevention.

[FR Doc. E9-8540 Filed 4-14-09; 8:45 am]

BILLING CODE 4163-18-P